FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants:

Polish Cargo Center, Inc., 2718 Orthodox Street, Philadelphia, PA 19137, Officers: Richard Dronski, Vice President (Qualifying Individual), Miroslaw Adolf, President.

Global Shipping LLC, 172-25 Jamaica Avenue, Jamaica, NY 11432, Officers: Roopnarine Persaud, President (Qualifying Individual), Jennifer Persaud, Treasurer.

Master Global Logistics, Inc., 758 S. Glasgow Avenue, Inglewood, CA 90301, Officers: Pi-Feng Lim, Secretary (Qualifying Individual), Hau Man Ying, President.

Professional Service Shipping Inc. dba Proserv Shipping Company, 401 Broadway, Rm. 908, New York, NY 10013, Officers: Bernard Shea, Vice President (Qualifying Individual), Yat Hung So, President.

Superior Brokerage Services, Inc., 2600 East 81st Street, Bloomington, MN 55425, Officers: Mark R. Kittel, Exec. Vice President (Qualifying Individual), Paul Goff, President.

Non-Vessel Operating Common Carrier and Ocean Freight Forwarder Transportation Intermediary Applicant:

C & J International Forwarding, Inc., 15049 SW 9 Terr., Miami, FL 33194, Officers: Yadira Paz, President (Qualifying Individual), Victor Paz, Vice President.

Ocean Freight Forwarder—Ocean Transportation Intermediary Applicant:

Ace International Redistribution Center, LLC, 2200 Kensington Court, Oak Brook, IL 60523-2100, Officers: Brian Imahori, Assistant Secretary (Qualifying Individual), Oscar Matus, Jr., Assistant Secretary.

Dated: March 19, 2004.
Bryant L. VanBrakle,
Secretary.

[FR Doc. 04-6617 Filed 3-23-04; 8:45 am]

BILLING CODE 6730-01-P